DEPARTMENT OF COMMERCE

Bureau of Industry and Security

RIN 0694-XC062

Extension of Deadline for Public Comments for Section 232 National Security Investigation of Imports of Laminations for Stacked Cores for Incorporation Into Transformers, Stacked Cores for Incorporation Into Transformers, Wound Cores for Incorporation Into Transformers, Electrical Transformers, and Transformer Regulators

AGENCY: Bureau of Industry and Security, Office of Technology Evaluation, U.S. Department of Commerce.

ACTIONS: Extension of comment period.

SUMMARY: On May 19, 2020, the Bureau of Industry and Security (BIS) published the Notice of Request for Public Comments on Section 232 National Security Investigation of Imports of Laminations for Stacked Cores for Incorporation into Transformers, Stacked Cores for Incorporation into Transformers, Wound Cores for Incorporation into Transformers, Electrical Transformers, and Transformer Regulators. Today's notice extends the deadline for written comments to July 3, 2020 and for rebuttal comments to July 24, 2020.

DATES: The comment period for the proposed rule published May 19, 2020 at 85 FR 29926, is extended until July 3, 2020. The due date for rebuttal comments is July 24, 2020. Rebuttal comments may only address issues raised in comments filed on or before July 3, 2020.

ADDRESSES: Submissions: All written comments on the notice must be addressed to Section 232 Electrical Steel Investigation and filed through the Federal eRulemaking Portal: http://www.regulations.gov. To submit comments via http://www.regulations.gov, enter docket number BIS-2020-0015 on the home page and click “search.” The site will provide a search results page listing all documents associated with this docket. Find a reference to this notice and click on the link entitled “Comment Now!” (For further information on using http://www.regulations.gov, please consult the resources provided on the website by clicking on “How to Use This Site.”)

FOR FURTHER INFORMATION CONTACT: Industrial Studies Division, Bureau of Industry and Security, U.S. Department of Commerce (202) 482-4952, ESproducts232@bis.doc.gov. For more information about the section 232 program, including the regulations and the text of previous investigations, please see www.bis.doc.gov/232.

SUPPLEMENTARY INFORMATION:

Background

On May 19, 2020, the Bureau of Industry and Security (BIS) published the Notice of Request for Public Comments on Section 232 National Security Investigation of Imports of Laminations for Stacked Cores for Incorporation into Transformers, Stacked Cores for Incorporation Into Transformers, Wound Cores for Incorporation Into Transformers, Electrical Transformers, and Transformer Regulators (85 FR 29926). The May 19 notice specified that on May 11, 2020, based on inquiries and requests from interested parties in the United States, including multiple Members of Congress, a domestic Grain-Oriented Electrical Steel (GOES) manufacturer, and producers of Power and Distribution Transformers, the Secretary of Commerce had initiated an investigation to determine the effects on the national security of imports of Laminations for Stacked Cores for Incorporation into Transformers, Stacked Cores for Incorporation Into Transformers, Wound Cores for Incorporation Into Transformers, Electrical Transformers, and Transformer Regulators. This investigation was initiated under section 232 of the Trade Expansion Act of 1962, as amended (19 U.S.C. 1862). See the May 19 notice for additional details on the investigation and the request for public comments.

Extension of Comment Period Deadline

The May 19 notice included a comment period deadline of June 9, 2020 and a rebuttal comment deadline of June 19, 2020. The Department received two requests from the public to extend the comment period deadline, both from trade associations. The Department of Commerce has determined at this time that it is warranted to extend the comment period by twenty-four calendar days and the rebuttal comment period by an additional twenty-one days after the comment period ends. Today's notice specifies that comments may be submitted at any time but must be received by July 3, 2020, to be considered in the drafting of the final report. The due date for rebuttal comments is July 24, 2020, to be considered in the drafting of the final report. Rebuttal comments may only address issues raised in comments filed on or before July 3, 2020.

Today's notice extends the comment period by twenty-four days and the rebuttal comment period by an additional twenty-one days after the end of the comment period to allow for additional time for the public to submit comments to be considered in the drafting of the final report on the investigation of imports of Laminations for Stacked Cores for Incorporation into Transformers, Stacked Cores for Incorporation Into Transformers, Wound Cores for Incorporation Into Transformers, Electrical Transformers, and Transformer Regulators.

Richard E. Ashooh,
Assistant Secretary for Export Administration.

[FR Doc. 2020-12759 Filed 6-9-20; 4:15 pm]

BILLING CODE 3510-33-P